DEPARTMENT OF ENERGY

Federal Energy Regulatory Commission

[Docket Nos. ER06-615-000;ER07-1257-000; ER08-1113-000; ER08-1178-000; ER09-1048-000; ER09-1281-000; ER01-313-009]

California Independent System Operator Corporation; Notice of FERC Staff Attendance

August 25, 2009.

The Federal Energy Regulatory Commission (Commission) hereby gives notice that on the following dates members of its staff will participate in teleconferences and meetings to be conducted by the California Independent System Operator (CAISO). The agenda and other documents for the teleconferences and meetings are available on the CAISO Web site, http://www.caiso.com.

August 26, 2009 2001-2003 Grid Management Charge Refund

August 27, 2009 Convergence Bidding, Large Generator Interconnection Procedures, Tariff Revisions

August 28, 2009 Real Time Imbalance Energy Offset

August 31, 2009 Scarcity Pricing Meeting

September 1, 2009 Systems Interface User Group

September 2, 2009 Congestion Revenue Rights Settlements and Market Clearing User Group

September 3, 2009 Market Issues

September 8, 2009 Systems Interface User Group, Congestion Revenue Rights Enhancement

September 9, 2009 Congestion Revenue Rights Settlements and Market Clearing User Group

Sponsored by the CAISO, the teleconferences and meetings are open to all market participants, and Commission staff's attendance is part of the Commission's ongoing outreach efforts. The teleconferences and meetings may discuss matters at issue in the above captioned dockets.

For further information, contact Saeed Farrokhpay at saeed.farrokhpay@ferc.gov; (916) 294-0322 or Maury Kruth at maury.kruth@ferc.gov, (916) 294-0275.

Kimberly D. Bose,
Secretary.

[FR Doc. E9-20941 Filed 8-28-09; 8:45 am]

BILLING CODE 6717-01-P